INTERNATIONAL TRADE COMMISSION

[Investigations Nos. 731-TA-885-887 (Preliminary)]

Desktop Note Counters and Scanners From China, Korea, and the United Kingdom

Determinations

On the basis of the record ¹ developed in the subject investigations, the United States International Trade Commission determines,² pursuant to section 733(a) of the Tariff Act of 1930 (19 U.S.C. 1673b(a)), that there is no reasonable indication that an industry in the United States is materially injured or threatened with material injury, or that the establishment of an industry in the United States is materially retarded, by reason of imports from China, Korea, and the United Kingdom of desktop note counters and scanners, provided for in subheading 8472.90.95 of the Harmonized Tariff Schedule of the United States, that are alleged to be sold in the United States at less than fair value (LTFV).

¹ The record is defined in § 207.2(f) of the Commission's rules of practice and procedure (19 CFR 207.2(f)).

² Commissioner Bragg dissenting.

Background

On July 17, 2000, a petition was filed with the Commission and the Department of Commerce by Cummins-Allison Corp., Mt. Prospect, IL, alleging that an industry in the United States is materially injured and threatened with material injury by reason of LTFV imports of desktop note counters and scanners from China, Korea, and the United Kingdom. Accordingly, effective July 17, 2000, the Commission instituted antidumping duty investigations Nos. 731-TA-885-887 (Preliminary).

Notice of the institution of the Commission's investigations and of a public conference to be held in connection therewith was given by posting copies of the notice in the Office of the Secretary, U.S. International Trade Commission, Washington, DC, and by publishing the notice in the Federal Register of July 25, 2000 (65 FR 49224). The conference was held in Washington, DC, on August 7, 2000, and all persons who requested the opportunity were permitted to appear in person or by counsel.

The Commission transmitted its determinations in these investigations to the Secretary of Commerce on August 31, 2000. The views of the Commission are contained in USITC Publication 3348 (September 2000), entitled Desktop Note Counters and Scanners from China, Korea, and the United Kingdom: Investigations Nos. 731-TA-885-887 (Preliminary).

Issued: August 31, 2000.
By order of the Commission.
Donna R. Koehnke,
Secretary.

[FR Doc. 00-23011 Filed 9-6-00; 8:45 am]

BILLING CODE 7020-02-P